FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 12, 2013.

A. Federal Reserve Bank of Atlanta (Chapelle Davis, Assistant Vice President) 1000 Peachtree Street NE., Atlanta, Georgia 30309:

1. Louisiana Bancorp, Inc. Employee Stock Ownership Plan, George Vernon Curry, Jr., and Lisa Rae Whittington, as trustees, both of Metairie, Louisiana; to retain and acquire additional voting shares of Louisiana Bancorp, Inc., and thereby indirectly retain and acquire additional voting shares of Bank of New Orleans, both in Metairie, Louisiana.

Board of Governors of the Federal Reserve System, June 24, 2013.
Margaret McCloskey Shanks,
Deputy Secretary of the Board.

[FR Doc. 2013-15429 Filed 6-26-13; 8:45 am]

BILLING CODE 6210-01-P